DEPARTMENT OF COMMERCE

National Oceanic and Atmospheric Administration

RIN 0648-XC941

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Snapper Grouper Advisory Panel (AP) in North Charleston, SC. The meeting is open to the public.

DATES: The meeting will be held from 9 a.m. until 5:30 p.m. on Tuesday, November 19, 2013 and from 9 a.m. until 5:30 p.m. on Wednesday, November 20, 2013.

ADDRESSES: Meeting address: The meeting will be held at the Crowne Plaza, 4381 Tanger Outlet Blvd., N. Charleston, SC 29418; telephone: (877) 747-7301.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: The Snapper Grouper Advisory Panel will receive an update on the status of various amendments to the Snapper Grouper Fishery Management Plan (FMP) and other amendments affecting the snapper grouper fishery. AP members will receive an update on the October 2013 meeting of the Council's Scientific and Statistical Committee (SSC) meeting, including results of the stock assessments for blueline tilefish and snowy grouper. AP members will receive overviews and provide recommendations on the following amendments to the Snapper Grouper FMP: Amendment 22 to establish a recreational harvest tag program for snapper grouper species with low Annual Catch Limits; Amendment 29 to amend the Acceptable Biological Catch (ABC) Control Rule and adjust ABCs for “Only Reliable Catch Stocks”; Regulatory Amendment 17 to establish marine protected areas to protect speckled hind and warsaw grouper; and Regulatory Amendment 16 to address the annual closure of black sea bass pot gear. The Snapper Grouper AP will also participate in facilitated discussions and provide recommendations on the Council's Visioning and Strategic Planning process for the snapper grouper fishery and address other business as necessary.

Although non-emergency issues not contained in this agenda may come before this group for discussion, those issues may not be the subject of formal action during the meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the council office (see ADDRESSES) 3 days prior to the meeting.

Note: The times and sequence specified in this agenda are subject to change.

Dated: October 29, 2013.
Tracey L. Thompson,
Acting Deputy Director, Office of Sustainable Fisheries, National Marine Fisheries Service.

[FR Doc. 2013-26066 Filed 10-31-13; 8:45 am]

BILLING CODE 3510-22-P